DEPARTMENT OF TRANSPORTATION

National Highway Traffic Safety Administration

Petition for Exemption From the Vehicle Theft Prevention Standard; Nissan

AGENCY: National Highway Traffic Safety Administration (NHTSA) Department of Transportation (DOT).

ACTION: Grant of petition for exemption.

SUMMARY: This document grants in full the Nissan North America, Inc.'s (Nissan) petition for exemption of the Rogue vehicle line in accordance with 49 CFR Part 543, Exemption from the Theft Prevention Standard. This petition is granted because the agency has determined that the antitheft device to be placed on the line as standard equipment is likely to be as effective in reducing and deterring motor vehicle theft as compliance with the parts-marking requirements of the Theft Prevention Standard (49 CFR Part 541). Nissan requested confidential treatment for the information and attachments it submitted in support of its petition. In a letter dated November 6, 2007, the agency granted the petitioner's request for confidential treatment.

DATES: The exemption granted by this notice is effective beginning with the 2009 model year.

FOR FURTHER INFORMATION CONTACT: Ms. Carlita Ballard, Office of International Policy, Fuel Economy and Consumer Programs, NHTSA, West Building, W43-439, 1200 New Jersey Avenue, SE., Washington, DC 20590. Ms. Ballard's phone number is (202) 366-0846. Her fax number is (202) 493-2990.

SUPPLEMENTARY INFORMATION: In a petition dated October 26, 2007, Nissan requested exemption from the parts-marking requirements of the theft prevention standard (49 CFR Part 541) for the MY 2009 Nissan Rogue vehicle line. The petition requested an exemption from parts-marking pursuant to 49 CFR Part 543, Exemption from Vehicle Theft Prevention Standard, based on the installation of an antitheft device as standard equipment for the entire vehicle line.

Under § 543.5(a), a manufacturer may petition NHTSA to grant exemptions for one of its vehicle lines per model year. Nissan's submission is considered a complete petition as required by 49 CFR 543.7, in that it meets the general requirements contained in 543.5 and the specific content requirements of 543.6.

Nissan's petition provided a detailed description and diagram of the identity, design, and location of the components of the antitheft device for the new vehicle line. Although specific details of the system's operation, design, effectiveness and durability have been accorded confidential treatment, NHTSA is, for the purposes of this petition, disclosing the following general information. Nissan will install its passive, transponder-based immobilizer device as standard equipment on its Rogue vehicle line beginning with MY 2009. Key components of the antitheft device are an engine electronic control module (ECM), a passive immobilizer and a transponder key. The immobilizer system prevents normal operation of the vehicle without the use of the key. Nissan's antitheft device will also have an alarm feature. Nissan stated that its alarm system is activated by opening any door without the use of a key. Upon activation of the alarm, the head lamps will flash and the horn will sound. Nissan also provided its own test information on the reliability and durability of its proposed device. Nissan based its belief that the device is reliable and durable since the device complied with the specific requirements for each test.

Nissan compared the device proposed for its vehicle line with other devices which NHTSA has determined to be as effective in reducing and deterring motor vehicle theft as would compliance with the parts-marking requirements. Nissan stated that its antitheft device will be no less effective than those devices in the lines for which NHTSA has already granted full exemption from the parts-marking requirements.

Nissan stated that NHTSA's theft data have shown a decline in theft rates for vehicle lines that have been equipped with antitheft devices similar to that which Nissan proposes to install on the new line. Nissan stated that based on the agency's theft rate data, the Buick Rivera and the Oldsmobile Aurora vehicles equipped with the PASS-Key and PASS-Key II systems experienced a significant reduction in theft rates from 1987 to 1996. Nissan concluded that the data indicates that the immobilizer was effective in contributing to the theft rate reduction for these lines. Nissan stated that based on NHTSA's theft data for 1987 through 1996, the average theft rate for the Buick Riviera and the Oldsmobile Aurora vehicles without the immobilizer was 4.8970 and 5.0760, respectively and 1.4288 and 2.0955 after installation of the immobilizer device. Further review of the agency's theft data published through the 2005 MY revealed that, while there is some variation, the theft rates for both lines continued to stay below the median theft rate of 3.5826. The agency agrees that the device is substantially similar to devices in other vehicles lines for which the agency has already granted exemptions.

The agency also notes that the device will provide the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device.

Pursuant to 49 U.S.C. 33106 and 49 CFR 543.7(b), the agency grants a petition for an exemption from the parts-marking requirements of part 541 either in whole or in part, if it determines that, based upon substantial evidence, the standard equipment antitheft device is likely to be as effective in reducing and deterring motor vehicle theft as compliance with the parts-marking requirements of part 541. The agency finds that Nissan has provided adequate reasons for its belief that the antitheft device will reduce and deter theft. This conclusion is based on the information Nissan provided about its device.

For the foregoing reasons, the agency hereby grants in full Nissan's petition for exemption for the Rogue vehicle line from the parts-marking requirements of 49 CFR Part 541, beginning with the 2009 model year vehicles. The agency notes that 49 CFR Part 541, Appendix A-1, identifies those lines that are exempted from the Theft Prevention Standard for a given model year. 49 CFR Part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Nissan decides not to use the exemption for this line, it must formally notify the agency, and, thereafter, the line must be fully marked as required by 49 CFR Parts 541.5 and 541.6 (marking of major component parts and replacement parts).

NHTSA notes that if Nissan wishes in the future to modify the device on which this exemption is based, the company may have to submit a petition to modify the exemption. Part 543.7(d) states that a Part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that Part 543.9(c)(2) could place on exempted vehicle manufacturers and itself. The agency did not intend Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: March 24, 2008.
Stephen R. Kratzke,
Associate Administrator for Rulemaking.

[FR Doc. E8-6493 Filed 3-27-08; 8:45 am]

BILLING CODE 4910-59-P